ENVIRONMENTAL PROTECTION AGENCY

[EPA-HQ-OPPT-2012-0725; FRL-9902-24]

Dichloromethane and N-Methylpyrrolidone TSCA Chemical Risk Assessment; Notice of Rescheduled Public Meetings and Extension of Opportunity To Comment

AGENCY: Environmental Protection Agency (EPA).

ACTION: Notice.

SUMMARY: On August 23, 2013, EPA announced that it would be holding three peer review meetings by web connect and teleconference on September 26, 2013, October 15, 2013, and November 12, 2013 regarding EPA's draft Toxic Substances Control Act (TSCA) chemical risk assessment, “TSCA Workplan Chemical Risk Assessment for Dichloromethane and N-Methylpyrrolidone.” The first meeting was held as scheduled. Due to the government shutdown, however, EPA has rescheduled the remaining two peer review meetings and is announcing the rescheduled meetings in this notice. EPA is also extending the due date for public comments.

DATES: Meetings. The peer review meetings will be held on Friday, November 8, 2013, from 10:00 a.m. to 6:00 p.m., EST; and Friday, December 13, 2013, from 12:00 p.m. to 3:00 p.m., EST. Comments. Written comments on the assessment must be submitted on or before November 22, 2013.

ADDRESSES: Submit your comments, identified by docket identification (ID) number EPA-HQ-OPPT-2012-0725, by one of the methods described in the notice published in the Federal Register on August 23, 2013, a copy of which is available in the docket at http://www.regulations.gov.

FOR FURTHER INFORMATION CONTACT: For technical information contact: Stan Barone, Jr., Risk Assessment Division (7403M), Office of Pollution Prevention and Toxics, Environmental Protection Agency, 1200 Pennsylvania Ave. NW., Washington, DC 20460-0001; telephone number (202) 564-1169; email address: barone.stan@epa.gov.

For peer review meeting logistics contact: Susie Warner, the Scientific Consulting Group (SCG), Inc., 656 Quince Orchard Rd., Suite 210, Gaithersburg, MD 20878-1409; telephone number: (301) 670-4990, ext. 227; fax number: (301) 670-3815; email address: SWARNER@scgcorp.com.

SUPPLEMENTARY INFORMATION: For details about the meetings regarding the peer review of EPA's draft Toxic Substances Control Act (TSCA) chemical risk assessment, “TSCA Workplan Chemical Risk Assessment for Dichloromethane and N-Methylpyrrolidone,” please see the notice that published in the Federal Register of August 23, 2013 (78 FR 52525) (FRL 9397-4). The first meeting was held as scheduled. However, due to the government shutdown, EPA has rescheduled the remaining two peer review meetings and is announcing the rescheduled meetings in this notice. EPA is also extending the due date for public comments. To be sure your comments are contained in the peer review record and are available to the peer reviewers, please submit the comments on or before November 22, 2013.

The rescheduled second peer review panel meeting on November 8, 2013, will be devoted to deliberations of the draft Dichloromethane (DCM) and N-Methylpyrrolidone (NMP) TSCA risk assessment by the peer review panel, guided by the charge questions to the peer review panel.

The third and final peer review panel meeting on December 13, 2013, will focus on the peer review panel's discussion of its draft DCM and NMP TSCA risk assessment recommendations to EPA, which will be posted on the contractor Web site prior to the final peer review meeting.

List of Subjects

Environmental protection, Chemicals, Peer review, Risk assessments, Dichloromethane and N-Methylpyrrolidone.

Dated: October 24, 2013.
Jeff Morris,
Director, Office of Pollution Prevention and Toxics.

[FR Doc. 2013-25737 Filed 10-25-13; 4:15 pm]

BILLING CODE 6560-50-P